DEPARTMENT OF HOMELAND SECURITY

Faith-Based Security Advisory Council

AGENCY: The Department of Homeland Security (DHS), Office of Partnership and Engagement (OPE).

ACTION: Notice of new Federal Advisory Committee.

SUMMARY: The Secretary of Homeland Security (Secretary) is establishing the Faith-Based Security Advisory Council (FBSAC). The primary purpose of the FBSAC will be to provide advice and recommendations to the Secretary on matters relating to houses of worship, faith-based organization security and homeland security. The FBSAC will operate in an advisory capacity only. This notice is provided in accordance with the Federal Advisory Committee Act, as amended. The FBSAC will terminate two years from the date of its establishment, unless extended by the Secretary.

FOR FURTHER INFORMATION CONTACT: Traci Silas at FBSAC@hq.dhs.gov or at (202) 603-1142.

SUPPLEMENTARY INFORMATION: In accordance with 41 CFR 102-3.65(b), as requested by the Department, the General Services Administration Committee Management Secretariat has approved a period of less than 15 calendar days pursuant to the publication of this notice for the filing of the FBSAC Charter.

Zarinah Traci Silas,
Senior Director and Alternate Designated Federal Official.

[FR Doc. 2020-13882 Filed 6-26-20; 8:45 am]

BILLING CODE 9112-FN-P